FEDERAL COMMUNICATIONS COMMISSION

47 CFR Part 73

[DA 01-18, MM Docket No. 01-2, RM-10036]

Television Broadcast Service; New Iberia, LA

AGENCY: Federal Communications Commission.

ACTION: Proposed rule.

SUMMARY: The Commission requests comments on a petition filed by Iberia Communications, L.L.C., an applicant for vacant NTSC TV channel 36 at New Iberia, Louisiana, requesting the substitution of channel 53 for channel 36 at New Iberia. Channel 53 can be allotted to New Iberia consistent with Sections 73.623(c) of the Commission's Rules with a minus offset at coordinates (30-12-48 N. and 91-45-58 W.). We will not accept competing expressions of interest in the use of television channel 53- at New Iberia pursuant to the Commission's guidelines stated in Public Notice released on November 22, 1999, DA 99-2505.

DATES: Comments must be filed on or before March 2, 2001, and reply comments on or before March 19, 2001.

ADDRESSES: Federal Communications Commission, 445 12th Street, SW., Room TW-A325, Washington, DC 20554. In addition to filing comments with the FCC, interested parties should serve the petitioner, or its counsel or consultant, as follows: Howard M. Weiss, Anne Goodwin Crump, Fletcher, Heald & Hildreth, PLC, 1300 North 17th Street, Eleventh Floor, Arlington, Virginia 22209 (Counsel for Iberia Communications, LLC).

FOR FURTHER INFORMATION CONTACT: Pam Blumenthal, Mass Media Bureau, (202) 418-1600.

SUPPLEMENTARY INFORMATION: This is a synopsis of the Commission's Notice of Proposed Rule Making, MM Docket No. 01-2, adopted January 8, 2001, and released January 9, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.602(b), the Table of Television Allotments under Louisiana is amended by removing TV Channel 36- and adding TV Channel 53- at New Iberia.

Federal Communications Commission.
Barbara A. Kreisman,
Chief, Video Services Division, Mass Media Bureau.

[FR Doc. 01-900 Filed 1-10-01; 8:45 am]

BILLING CODE 6712-01-P